Title 3—

The President

Memorandum of November 5, 2018

Delegation of Authority Contained in Condition 23 of the Resolution of Advice and Consent to Ratification of the Chemical Weapons Convention

Memorandum for the Secretary of State

By the authority vested in me as President by the Constitution and the laws of the United States of America, including section 301 of title 3, United States Code, I hereby delegate to the Secretary of State, in coordination with departments and agencies through the National Security Presidential Memorandum-4 process, the authority to carry out the functions assigned to the President by Condition 23 of the United States Senate's Resolution of Advice and Consent to Ratification of the Convention on the Prohibition of the Development, Production, Stockpiling, and Use of Chemical Weapons and on their Destruction.

You are authorized and directed to publish this memorandum in the Federal Register.

THE WHITE HOUSE,

Washington, November 5, 2018

[FR Doc. 2018-26528

Filed 12-3-18; 11:15 am]

Billing code 4710-10-P